Title 3—

The President

Proclamation 7611 of October 17, 2002

Year of Clean Water, 2002-2003

By the President of the United States of America

A Proclamation

On October 18, 2002, our Nation marks the 30th anniversary of the Clean Water Act and begins the Observance of the Year of Clean Water. This landmark environmental legislation has been central to the important progress we have made as a Nation in improving the quality of our drinking water and the health of our waters, wetlands, and watersheds. During this time, we renew our commitment to building on these successes and to developing new approaches and partnerships to meet our environmental challenges.

The Clean Water Act of 1972 and the Safe Drinking Water Act of 1974 have helped our citizens enjoy one of the safest and cleanest water supplies in the world. Under the Clean Water Act, the Federal Government has provided more than $80 billion in wastewater assistance to the States and localities. This fundamentally important investment has ensured that 165 million citizens now benefit from modern sewage treatment, up from 86 million in 1968. The important advances in waste water treatment since the Clean Water Act's passage constitute one of the major achievements in modern American public health.

In the last 30 years, the overall health of our marine waters, lakes, rivers, streams, and wetlands has also dramatically improved. The Federal Government has cooperated with States, tribes, local communities, businesses, and concerned individuals to reduce significantly all forms of water pollution, making our waters better suited for recreation and other pursuits and more hospitable to aquatic life. Recent studies show that we are close to achieving our goal of halting overall wetlands loss, and we are hopeful that in the near future we will begin increasing the overall function and value of our wetlands. As we look to the challenges ahead, the Clean Water Act will be an important mainstay and tool for further progress.

As part of our Nation's long-term commitment to protecting our environment and natural resources, we must continue to focus on cleaner air, water, and land; healthier citizens, and vibrant ecosystems. We will continue to collaborate with private organizations, landowners, and all levels of government to encourage the development of new technologies and innovative approaches to protecting our environment. Through policies and programs that recognize regional differences, employ market forces, and empower individuals to be good stewards of the earth, we can and will meet the environmental challenges of the future.

NOW, THEREFORE, I, GEORGE W. BUSH, President of the United States of America, by virtue of the authority vested in me by the Constitution and laws of the United States, do hereby proclaim the year beginning October 18, 2002, as the Year of Clean Water in commemoration of the 30th anniversary of the Clean Water Act. I call upon all Americans to observe this year with appropriate programs, ceremonies, and activities, and to join in setting good examples of environmental stewardship in our daily lives.

IN WITNESS WHEREOF, I have hereunto set my hand this seventeenth day of October, in the year of our Lord two thousand two, and of the Independence of the United States of America the two hundred and twenty-seventh.

B

[FR Doc. 02-27025

Filed 10-21-02; 8:45 am]

Billing code 3195-01-P